SECURITIES AND EXCHANGE COMMISSION

[SEC File No. 270-563, OMB Control No. 3235-0626]

Proposed Collection; Comment Request; Extension: Rule 17g-3

Upon Written Request, Copies Available From: Securities and Exchange Commission, Office of FOIA Services. 100 F Street NE, Washington, DC 20549-2736.

Notice is hereby given that pursuant to the Paperwork Reduction Act of 1995 (44 U.S.C. 3501 et seq.), the Securities and Exchange Commission (“Commission”) is soliciting comments on the existing collection of information provided for in Rule 17g-3 (17 CFR 240.17g-3) under the Securities Exchange Act of 1934 (15 U.S.C. 78a et seq.). The Commission plans to submit this existing collection of information to the Office of Management and Budget for extension and approval.

Rule 17g-3 contains certain reporting requirements for NRSROs. Specifically, NRSROs are required to file with the Commission, on an annual basis, financial reports containing specified financial statements, certain financial condition reports, and a report on the internal control structure. NRSROs are also required to furnish a report of the number of credit rating actions taken during the most recently completed fiscal year. Currently, there are 10 credit rating agencies registered as NRSROs with the Commission. Based on staff experience, the Commission estimates that the total burden for respondents to comply with Rule 17g-3 is 3,650 hours. In addition, the Commission estimates an industry-wide annual external cost to NRSROs of $350,000 to comply with Rule 17g-3, reflecting costs to engage the services of independent public accountants and outside counsel.

Written comments are invited on: (a) whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted by April 8, 2024.

An agency may not conduct or sponsor, and a person is not required to respond to, a collection of information unless it displays a currently valid OMB control number. Please direct your written comments to: Dave Bottom, Director/Chief Information Officer, Securities and Exchange Commission, c/o John Pezzullo, 100 F St NE, Washington, DC 20549 or send an email to: PRA_Mailbox@sec.gov.

Dated: February 2, 2024.
Sherry R. Haywood,
Assistant Secretary.

[FR Doc. 2024-02489 Filed 2-6-24; 8:45 am]

BILLING CODE 8011-01-P